DEPARTMENT OF TRANSPORTATION

National Highway Traffic Safety Administration

[Docket No. NHTSA-2015-0103; Notice 2]

Michelin North America, Inc., Mootness of Petition for Decision of Inconsequential Noncompliance

AGENCY: National Highway Traffic Safety Administration (NHTSA), Department of Transportation (DOT).

ACTION: Mootness of Petition.

SUMMARY: Michelin North America, Inc. (MNA), has determined that certain Michelin heavy truck tires do not fully comply with Federal Motor Vehicle Safety Standard (FMVSS) No. 119, New Pneumatic Tires for Motor Vehicles with a GVWR of More than 4,536 kilograms (10,000 pounds) and Motorcycles. MNA filed a noncompliance report dated September 18, 2015. MNA then petitioned NHTSA on October 1, 2015, for a decision that the subject noncompliance is inconsequential as it relates to motor vehicle safety.

FOR FURTHER INFORMATION CONTACT: For further information on this decision contact Abraham Diaz, Office of Vehicle Safety Compliance, the National Highway Traffic Safety Administration (NHTSA), telephone (202) 366-5310, facsimile (202) 366-5930.

SUPPLEMENTARY INFORMATION:

I. Overview

Michelin North America, Inc. (MNA), has determined that certain Michelin heavy truck tires do not fully comply with paragraphs S6.5(a) and (j) of Federal Motor Vehicle Safety Standard (FMVSS) No. 119, New Pneumatic Tires for Motor Vehicles with a GVWR of More than 4,536 kilograms (10,000 pounds) and Motorcycles. MNA has filed a report dated September 18, 2015, pursuant to 49 CFR part 573, Defect and Noncompliance Responsibility and Reports. MNA then petitioned NHTSA on October 1, 2015, pursuant to 49 U.S.C. 30118(d) and 30120(h) (see implementing rule at 49 CFR part 556), for an exemption from the notification and remedy requirements of 49 U.S.C. Chapter 301 on the basis that this noncompliance is inconsequential as it relates to motor vehicle safety.

Notice of receipt of the petition was published with a 30-day public comment period, on November 19, 2015 in the Federal Register (80 FR 72483). No comments were received. To view the petition and all supporting documents log onto the Federal Docket Management System (FDMS) Web site at: https://www.regulations.gov/. Then follow the online search instructions to locate docket number “NHTSA-2015-0103.”

II. Tires Involved

Affected are approximately 247 Michelin X Works XZY size 315/80R22.5 156/150K heavy truck tires that were manufactured between January 1, 2011 and July 31, 2015.

III. Noncompliance

MNA describes the noncompliance's as the inadvertent omission from the tires sidewall of the letter marking that designates the tire load range as required by paragraph S6.5(j) and the symbol “DOT” confirming certification as required by paragraph S6.5(a) of FMVSS No. 119.

IV. Rule Text

Paragraph S6.5 of FMVSS No. 119 requires in pertinent part:

S6.5 Tire Markings. Except as specified in this paragraph, each tire shall be marked on each sidewall with the information specified in paragraphs (a) through (j) of this section. . . .

(a) The symbol DOT, which shall constitute a certification that the tire conforms to applicable Federal Motor Vehicle Safety standards. This symbol may be marked on only one sidewall. . . .

(j) The letter designating the tire Load Range.

V. Summary of MNA's Petition

MNA believes that while it did not intend to release the subject tires for sale in the US market, and therefore did not mark the tires accordingly, it believes that the subject noncompliance is inconsequential to motor vehicle safety for the following reasons:

(1) Maximum Load Rating: The subject tires are marked on both sidewalls with the European Tyre and Rim Technical Organisation (ETRTO) published load capacities in pounds and kilograms for single and dual application in the format specified by FMVSS No. 119. MNA believes that this marking provides sufficient information to ensure the proper application of the tire.

(2) Load Index: The subject tire is marked with the [International Organization for Standardization] ISO load indices for single and dual application as specified by the ETRTO standard. MNA believes that ISO load indices are widely recognized within the industry and thus provide additional information to ensure the proper application of the tire.

(3) Other Markings: All other markings specified by FMVSS No. 119 are present on the tire including the full tire identification number (TIN).

(4) Performance: The subject tire meets all performance requirements of FMVSS No. 119. MNA believes that the subject noncompliances have no impact on the load carrying capacity of the tire on a motor vehicle, nor on motor vehicle safety itself.

(5) Vehicle Fitment: Paragraph S6 of FMVSS No. 119 requires that the marking should contain load capacity values in pounds and kilograms as well as a letter designating the load range. This information is used by vehicle owners to ensure adequate tire load capacity for the specific vehicle configuration. Although the subject tire lacks the letter designating the load range, MNA believes that the ETRTO standard load capacity values and ISO load indices for single and dual application which are widely recognized in the industry are present to ensure proper application.

(6) MNA has additionally informed NHTSA that it has corrected its internal systems error to prevent similar tires from being released for sale in the U.S. market in the future.

In summation, MNA believes that the described noncompliances of the subject tires is inconsequential to motor vehicle safety, and that its petition, to exempt MNA from providing recall notification of noncompliances as required by 49 U.S.C. 30118 and remedying the recall noncompliance as required by 49 U.S.C. 30120 should be granted.

VI. NHTSA'S Decision

As part of a settlement agreement for violations of 49 U.S.C. 30115(a) and 49 U.S.C. 30112(a)(1), MNA agreed to conduct a notification and remedy campaign for the affected tires,¹ therefore this petition is moot. Refer to Docket No. NHTSA-2015-0103 for more information about the settlement agreement.

¹ NHTSA ID 15T-020.

Authority: 49 U.S.C. 30118, 30120: delegations of authority at 49 CFR 1.95 and 501.8.

Jeffrey M. Giuseppe,
Director, Office of Vehicle Safety Compliance.

[FR Doc. 2017-10745 Filed 5-24-17; 8:45 am]

BILLING CODE 4910-59-P